DEPARTMENT OF COMMERCE

National Telecommunications and Information Administration

Agency Information Collection Activities; Submission to the Office of Management and Budget (OMB) for Review and Approval; Comment Request; Middle Mile Grant Program

AGENCY: National Telecommunications and Information Administration (NTIA), Commerce.

ACTION: Notice of information collection, request for comment.

SUMMARY: The Department of Commerce, following the Paperwork Reduction Act of 1995 (PRA), invites the public and other Federal agencies to comment on proposed and continuing information collections, which helps us assess the impact of our information collection requirements and minimize the public's reporting burden. This Notice of Information Collection is for the Middle Mile Grant Program Bi-Annual Performance Reporting and Final Report. The purpose of this notice is to allow for 60 days of public comment preceding the submission of the collection to OMB.

DATES: To ensure consideration, comments regarding this proposed information collection must be received on or before January 3, 2023.

ADDRESSES: Interested persons are invited to submit written comments by mail to Arica Cox, Telecommunications Policy Analyst, Grants Management, Administration, and Compliance, Office of internet Connectivity and Growth, National Telecommunication and Information Administration, U.S. Department of Commerce, 1401 Constitution Avenue NW, Room 4626, Washington, DC 20230, or by email to broadbandusa@ntia.gov. Please reference Middle Mile Grant Program Data Collection in the subject line of your comments. Do not submit Confidential Business Information or otherwise sensitive or protected information.

FOR FURTHER INFORMATION CONTACT: Requests for additional information or specific questions related to collection activities should be directed Arica Cox, Telecommunications Policy Analyst, Grants Management, Administration, and Compliance, Office of internet Connectivity and Growth, National Telecommunication and Information Administration, U.S. Department of Commerce, 1401 Constitution Avenue NW, Room 4626, Washington, DC 20230, or email at acox@ntia.gov; broadbandusa@ntia.gov; or via telephone at (202) 209-3011.

SUPPLEMENTARY INFORMATION:

I. Abstract

The Enabling Middle Mile Grant Program, authorized by Section 60401 of the Infrastructure Investment and Jobs Act of 2021, Public Law 117-58, 135 Stat. 429 (November 15, 2021) (Infrastructure Act or Act), provides funding for the construction, improvement, or acquisition of middle mile infrastructure. The Middle Mile Grant Program will make up to $980,000,000 available for federal assistance to the following eligible entities: a State, political subdivision of a State, Tribal government, technology company, electric utility, utility cooperative, public utility district, telecommunications company, telecommunications cooperative, nonprofit foundation, nonprofit corporation, nonprofit institution, nonprofit association, regional planning council, Native entity, economic development authority, or any partnership of two (2) or more of these entities. The purpose of the grant program is to expand and extend middle mile infrastructure to reduce the cost of connecting areas that are unserved or underserved to the internet backbone.

On May 13, 2022, NTIA published the program's Notice of Funding Opportunity (NOFO) on internetforAll.gov to describe the requirements under which it will award grants for the Middle Mile Grant Program.¹ The NOFO requires award recipients to submit bi-annual performance reports, financial reports, and a final report as a part of the grant close-out process. Award recipients must follow the reporting requirements described in Section A.01, Reporting Requirement, of the Department of Commerce Financial Assistance Standard Terms and Conditions (dated November 12, 2020). Additionally, in accordance with 2 CFR part 170, all recipients of a federal award made on or after October 1, 2010, must comply with reporting requirements under the Federal Funding Accountability and Transparency Act of 2006 (Pub. L. 109-282).

¹ See Enabling Middle Mile Broadband Infrastructure Program Notice of Funding Opportunity (NOFO) (May 13, 2022), https://www.internetforall.gov/program/enabling-middle-mile-broadband-infrastructure-program.

NTIA will use the information collected from each award recipient to effectively administer and monitor the grant program to ensure the achievement of the Middle Mile Grant Program purposes and account for the expenditure of federal funds to deter waste, fraud, and abuse.

II. Method of Collection

Middle Mile Grant Program

Award recipients will submit financial and performance reports on a bi-annual basis for the periods ending March 31st and September 30th of each year, and an annual report no later than one year after receiving grant funds and yearly thereafter until they have expended all funds. NTIA will collect data through electronic submission.

Reports will be due within 30 days after the end of the reporting period until the funds have been expended and are submitted to the Assistant Secretary. NTIA may consider collecting data through electronic submission. The report shall discuss the six-month period immediately preceding the report date, in a manner that:

(1) Describes how the eligible entity expended the funds and includes an SF-425 form and all required financial reporting information.

(2) Certifies that the eligible entity complied with the requirements of the Infrastructure Act and the Middle Mile Grant Program, including:

a. A description of each service provided with the grant funds; and

b. Information regarding the middle mile infrastructure constructed, improved, or acquired, including material describing specific routes deployed, splice points and interconnection points along such routes, interconnection points, any interconnection or wholesale agreements in place with third parties, and connections to last-mile infrastructure.

(3) Describes whether the project prioritizes local hires.

(4) Describes whether the project proposes use of a Community Benefit Agreement, with a description of any such agreement.

(5) Identifies each subrecipient that received a subaward or subcontract from the eligible entity and provides a description of the specific project for which grant funds were provided.

(6) Includes technical progress reporting information as prescribed in 2 CFR 200.329 (https://www.ecfr.gov/current/title-2/subtitle-A/chapter-II/part-200/subpart-D#200.328) and Department of Commerce Financial Assistance Standard Terms and Conditions (dated November 12, 2020), Section A.01.

For projects over $5,000,000 (based on expected total cost):

(1) A recipient may provide a certification that, for the relevant project, all laborers and mechanics employed by contractors and subcontractors in the performance of such project are paid wages at rates not less than those prevailing, as determined by the U.S. Secretary of Labor in accordance with subchapter IV of chapter 31 of title 40, United States Code (commonly known as the “Davis-Bacon Act”), for the corresponding classes of laborers and mechanics employed on projects of a character similar to the contract work in the civil subdivision of the State (or the District of Columbia) in which the work is to be performed, or by the appropriate State entity pursuant to a corollary State prevailing-wage-in-construction law (commonly known as “baby Davis-Bacon Acts”). If such certification is not provided, an awardee must provide a project employment and local impact report detailing:

a. The number of contractors and sub-contractors working on the Project;

b. The number of workers on the Project hired directly and hired through a third party;

c. The wages and benefits of workers on the Project by classification; and

d. Whether those wages are at rates less than those prevailing.²

² As determined by the U.S. Secretary of Labor in accordance with subchapter IV of chapter 31 of title 40, United States Code (commonly known as the “Davis-Bacon Act”), for the corresponding classes of laborers and mechanics employed on projects of a character similar to the contract work in the civil subdivision of the State (or the District of Columbia) in which the work is to be performed.

(2) If a recipient has not provided a certification that a project either will use a unionized project workforce or includes a project labor agreement, meaning a pre-hire collective bargaining agreement consistent with section 8(f) of the National Labor Relations Act (29 U.S.C. 158(f)), then the recipient must provide a project workforce continuity plan, detailing:

a. Steps taken and to be taken to ensure the project has ready access to a sufficient supply of appropriately skilled and unskilled labor to ensure construction is completed in a competent manner throughout the life of the project (as required in Section III.B), including a description of any required professional certifications and/or in-house training, registered apprenticeships or labor-management partnership training programs, and partnerships with entities like unions, community colleges, or community based groups;

b. Steps taken and to be taken to minimize risks of labor disputes and disruptions that would jeopardize timeliness and cost-effectiveness of the project;

c. Steps taken and to be taken to ensure a safe and healthy workplace that avoids delays and costs associated with workplace illnesses, injuries, and fatalities, including descriptions of safety training, certification, and/or licensure requirements for all relevant workers (e.g., OSHA 10, OSHA 30, confined space, traffic control, or other training required of workers employed by contractors), including issues raised by workplace safety committees and their resolution;

d. The name of any subcontracted entity performing work on the project and the total number of workers employed by each such entity, disaggregated by job title; and

e. Steps taken and to be taken to ensure that workers on the project receive wages and benefits sufficient to secure an appropriately skilled workforce in the context of the local or regional labor market.

Recipients must maintain sufficient records to substantiate all information above upon request.

III. Data

OMB Control Number: 0660-XXXX.

Form Number(s): TBD.

Type of Review: New information collection.

Affected Public: Recipients of funding under the Middle Mile Grant Program. Recipients might include States, political subdivisions of a State, Tribal governments, technology companies, electric utilities, utility cooperatives, public utility districts, telecommunications companies, telecommunication cooperatives, nonprofit foundations, nonprofit corporations, nonprofit institutions, nonprofit associations, regional planning councils, Native entities, economic development authorities, or partnerships of two (2) or more of these entities.

Estimated Number of Respondents: 75.

Estimated Time Per Response: 33.22.

Estimated Total Annual Burden Hours: 7,474.5.

Estimated Total Annual Cost to Public: $356,757.89.

Respondent's Obligation: Mandatory.

Legal Authority: Section 60401of the Infrastructure Investment and Jobs Act of 2021, Public Law 117-58, 135 Stat. 429 (November 15, 2021)

IV. Request for Comments

We are soliciting public comments to permit the Department to:

(1) Evaluate whether the proposed information collection is necessary for the proper functions of the Department, including whether the information will have practical utility.

(2) Evaluate the accuracy of our estimate of the time and cost burden for this proposed collection, including the validity of the methodology and assumptions used.

(3) Evaluate ways to enhance the quality, utility, and clarity of the information to be collected.

(4) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-24085 Filed 11-3-22; 8:45 am]

BILLING CODE 3510-60-P